DEPARTMENT OF ENERGY

Federal Energy Regulatory Commission

[Project No. 14215-002]

Spartanburg Water System; Notice of Preliminary Permit Application Accepted for Filing and Soliciting Comments, Motions To Intervene, and Competing Applications

On April 3, 2015, Spartanburg Water System filed an application for a preliminary permit, pursuant to section 4(f) of the Federal Power Act (FPA), proposing to study the feasibility of the Fingerville Project to be located at the existing Fingerville Dam, on the North Pacolet River, near the town of Fingerville, Spartanburg County, South Carolina. The sole purpose of a preliminary permit, if issued, is to grant the permit holder priority to file a license application during the permit term. A preliminary permit does not authorize the permit holder to perform any land-disturbing activities or otherwise enter upon lands or waters owned by others without the owners' express permission.

The proposed project would consist of: (1) An existing 11.3-foot-high, 171-foot-long wooden dam, owned by Spartanburg; (2) a reservoir with a surface area of 11.69 acres; (3) a 130-foot-long headrace channel; (4) a powerhouse containing one generating unit with a total capacity of 150.0 kilowatts (kW); (4) a tailrace; and (5) a 450-foot-long, 12 kilo-volt (KV) transmission line. The project would have an estimated average annual generation of 770.0 megawatt-hours (MWh).

Applicant Contact: Ms. Sue Schneider, Spartanburg Water System, 200 Commerce Street, P.O. Box 251, Spartanburg, SC 29304, (864) 580-5642.

FERC Contact: Michael Spencer; phone: (202) 502-6093.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14215-002.

More information about this project, including a copy of the application, can be viewed or printed on the “eLibrary” link of Commission's Web site at http://www.ferc.gov/docs-filing/elibrary.asp. Enter the docket number (P-14215) in the docket number field to access the document. For assistance, contact FERC Online Support.

Dated: May 8, 2015.
Kimberly D. Bose,
Secretary.

[FR Doc. 2015-11693 Filed 5-14-15; 8:45 am]

BILLING CODE 6717-01-P